ENVIRONMENTAL PROTECTION AGENCY

[FRL-6871-5]

Notice of Availability of Recommendations From the Task Force on Agricultural Air Quality Regarding Agricultural Burning and Voluntary Measures; Solicitation of Comments

AGENCY: Environmental Protection Agency (EPA).

ACTION: Notice of availability.

SUMMARY: The purpose of this notice is to provide the public with an opportunity to comment on the Agricultural Air Quality Task Force (AAQTF) recommendations regarding an air quality policy on agricultural burning and on a voluntary (incentive based) control measures policy to address RACM/BACM requirements for particulate matter (PM) nonattainment areas. Section 391 of the 1996 Federal Agriculture Improvement and Reform Act (FAIR) directs the Chief of the Natural Resource Conservation Service (NRCS) of the United States Department of Agriculture (USDA) to establish a task force to address agricultural air quality issues. The AAQTF includes representation from agricultural producers, air quality researchers, agricultural industry representatives, medical researchers and State air quality and USDA staff. On November 10, 1999, the AAQTF forwarded a series of recommendations to the USDA in response to implementing provisions of the Clean Air Act and the concerns of agricultural producers to retain the valid use of fire as a management tool in support of agricultural production. In February 2000, Secretary Glickman forwarded these recommendations to EPA Administrator Browner as written for consideration in the development of future policies impacting agricultural burning. The recommendations provide guidance on reducing air pollution impacts caused by burning in support of agricultural production. It identifies a two-tier approach to the regulation of agricultural burning by Agricultural Burning Managers. Along with these recommendations the AAQTF also submitted recommendations to the Administrator related to a voluntary (incentive based) control measures policy to address RACM/BACM requirements for agricultural operations in PM nonattainment areas.

The EPA is seeking public comment on both sets of AAQTF recommendations as it prepares to begin developing policies to address the air quality impacts of agricultural burning and the use of USDA's incentive based programs/practices in meeting RACM/BACM requirements. Since the voluntary measures recommendations are relatively brief they have been included in this notice. The agricultural burning recommendations however are too lengthy to include here. To obtain copies of the agricultural burning recommendations via the Internet, use the following Internet address: http://www.nhq.nrcs.usda.gov/faca/aaqtf.html. This document can also be found at http://www.nhq.nrcs.usda.gov/faca/. To obtain hard copies call Robin Dunkins at 919-541-5335, or Elvis Graves at 919-541-5436.

DATES: Written comments, identified by Docket No. A-2000-22, must be received by EPA on or before November 17, 2000.

ADDRESSES: Comments may be submitted by mail, electronically, or in person. Please follow the detailed instructions for each method as provided in the SUPPLEMENTARY INFORMATION section of this document.

FOR FURTHER INFORMATION CONTACT: Gary Blais or Robin Dunkins, Integrated Policy and Strategies Group, Office of Air Quality Planning and Standards, Environmental Protection Agency, Research Triangle Park, NC 27711; telephone numbers: 919-541-3223 or 919-541-5335; e-mail addresses: blais.gary@epa.gov or dunkins.robin@epa.gov.

SUPPLEMENTARY INFORMATION:

I. How can I get additional information or copies of this document or other related documents?

1. Electronically. You may obtain electronic copies of this document and other related documents from the EPA internet home page at http://www.epa.gov/. To access this document, on the home page select “Laws and Regulations” and then look up the entry for this document under the “Federal Register—Environmental Documents.” You can also go directly to the Federal Register listings at http://www.epa.gov/fedrgstr/.

2. In Person. The Agency has established an official record for this action under docket control number A-2000-22. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in EPA's Air and Radiation Docket and Information Center; 401 M Street SW; Room M-1500 (Mail Code 6102); Washington, DC 20460. The docket is available for public inspection and copying between 8:00 a.m. and 5:30 p.m., Monday through Friday, excluding legal holidays. A reasonable fee may be charged for copying.

II. How and to Whom Do I Submit Comments?

You may submit comments through the mail, in person, or electronically. To ensure proper receipt by EPA, it is imperative that you identify docket control number A-2000-22 in the subject line on the first page of your response.

1. By U.S. Postal Service. Submit comments to: EPA Air and Radiation Docket and Information Center (Mail Code 6102), Attention: Docket No. A-2000-22, U.S. Environmental Protection Agency, 1200 Pennsylvania Ave., NW, Washington, DC 20460, telephone (202) 260-7548.

2. In Person or by Courier. Deliver comments to: EPA Air and Radiation Docket and Information Center; 401 M Street SW; Room M-1500 (Mail Code 6102); Washington, DC 20460; Attention: Docket No. A-2000-22.

3. Electronically. Submit electronic comments by e-mail to: A-and-R-Docket@epamail.epa.gov. Do not submit any information electronically that you consider to be CBI. Electronic comments must be submitted as an ASCII file, avoiding the use of special characters and any form of encryption. Comments and data will also be accepted on standard computer disks in WordPerfect 6.1/8.0 or ASCII file format. All comments in electronic form must be identified by the docket control number A-2000-22. Electronic comments may also be filed online at many Federal Depository Libraries.

III. How Should I Handle CBI Information That I Want To Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

IV. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve this notice.

7. Make sure to submit your comments by the deadline in this document.

8. To ensure proper receipt by EPA, be sure to identify the docket control number assigned to this action in the subject line on the first page of your response. You may also provide the name, date, and Federal Register citation.

V. Voluntary Compliance Program Recommendations—Introduction

Agricultural field operations are perceived to be significant sources of PM-10. In areas that are classified as nonattainment, states are required to bring the areas into attainment in a time frame specified by the Clean Air Act (CAA). If a time line is not met, the state is subject to penalties such as withholding of federal highway funds, offsets, and Federal Implementation Plans (FIPs).

In “moderate” and “serious” nonattainment areas, all area source agricultural operations that are perceived to contribute to the ambient concentration of PM-10 will be required to implement “Reasonably Available Control Measures (RACM)” and “Best Available Control Measures (BACM),” respectively. No current guidance exists on RACM and BACM for agricultural operations. The difficulties with specifying control measures for area sources of PM-10 are the lack of good scientific data on the quantity of the PM-10 reductions associated with specific “RACM/BACM.” In order to appropriately develop guidance for agricultural operations, the following research is needed:

• Define appropriate and effective PM-10 control measures (potential RACM/BACMs) for agricultural operations that are economically and technologically feasible;

• Quantify PM-10 reductions resulting from the utilization of each proposed RACM/BACM; and

• Develop accurate emissions inventories for agricultural operations.

In the interim, States must include in their State Implementation Plans (SIPs) actions that will bring nonattainment areas into attainment within the time frame specified by the CAA. The Agricultural Air Quality Task Force (AAQTF) recommends that the available control measures (potential candidates for RACM/BACM) be based on the Conservation Management Practices (CMP) compiled by USDA.

VI. Voluntary Compliance Program Recommendations

The AAQTF considers that voluntary compliance programs are the appropriate strategy for agriculture. The AAQTF is proposing that voluntary compliance programs be used by air pollution regulatory agencies for reductions of PM-10 from agricultural operations in areas classified as nonattainment. The goal of these voluntary, incentive-based programs is to provide significant reductions of PM-10 emissions from agricultural operations while sustaining long-term agricultural production. In order for EPA to utilize this policy, the USDA incentive-based programs must include “accountability” and “backstop provisions.” “Accountability” would encompass verification of participation in the program by NRCS or “appropriate agency.” (“Farmers will self certify and NRCS will provide verification of percent application every third year or as appropriate.) Accountability would also include adequate recordkeeping of plans and participation by USDA. “Backstop” would be a failure to achieve participation credited in the SIP which would result in a “SIP Call” and could result in a regulatory approach by the state which could regulate individual agricultural operations.

Although the motivation for this program is to address PM-10 regulatory procedures, it is anticipated that this voluntary compliance program could also be used for other regulated pollutants attributed to agricultural operations.

As part of this program, the AAQTF proposes the following:

• A guidance document for agriculture production be developed that would include proposed RACM/BACMs and estimated reductions of PM-10 associated with implementation of each abatement strategy. It is anticipated that RACM/BACM will need to be determined on a site specific basis. (A RACM/BACM may be appropriate for one location and not appropriate for another.) Provisions will be made to facilitate the incorporation of current research findings into this guidance document.

• Local elected officials from the soil and water conservation districts as agreed to in the USDA/EPA Memorandum of Understanding (MOU) may administer the voluntary compliance program with technical assistance, education and training provided by the Natural Resources Conservation Service (NRCS), Cooperative State Research, Education, and Extension Service (CSREES), land grant universities, and the Agricultural Research Service (ARS).

• Appropriate resources should be provided to the local soil and water conservation districts and NRCS personnel.

• SIP credits should be allowed based on the rate of participation (percentage of land mass and/or percentage of cooperators participating) and should be based on certification by officials of the conservation district on an annual basis.

• There should be no additional record keeping and reporting requirements on the cooperators beyond that required by the USDA programs.

• The success of this policy will depend upon the states ability to comply with the SIP.

• If agricultural operations are utilizing economically and technologically feasible control measures, the intent of this policy is not to place demands that will result in adverse impacts on those cooperators.

Dated: September 6, 2000.
John S. Seitz,
Director, Office of Air Quality Planning and Standards.

[FR Doc. 00-23948 Filed 9-15-00; 8:45 am]

BILLING CODE 6560-50-P